DEPARTMENT OF HEALTH AND HUMAN SERVICES

Administration for Children and Families

Proposed Information Collection Activity; Head Start Child and Family Experiences Survey (FACES) (OMB #0970-0151)

AGENCY: Office of Planning, Research, and Evaluation, Administration for Children and Families, HHS.

ACTION: Request for public comment.

SUMMARY: The Office of Planning, Research, and Evaluation (OPRE), Administration for Children and Families (ACF), U.S. Department of Health and Human Services (HHS), is proposing to collect data for a new wave of the Head Start Family and Child Experiences Survey (FACES).

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written should be identified by the title of the information collection.

SUPPLEMENTARY INFORMATION: Description: The purpose of the FACES data collection is to support the 2007 reauthorization of the Head Start program (Pub. L. 110-134), which calls for periodic assessments of Head Start's quality and effectiveness. FACES 2019 focuses on Head Start Regions I through X (which are geographically based); AIAN (American Indian and Alaska Native) FACES 2019 focuses on Region XI (which funds Head Start programs that serve federally recognized American Indian and Alaska Native tribes). Both studies will provide data on a set of key indicators for Head Start programs. Information about the Head Start program recruitment and center selection processes and on the fall 2019 and spring 2020 data collection activities for both FACES and AIAN FACES can be found here: https://www.reginfo.gov/public/do/PRAViewICR?ref_nbr=202005-0970-009.

The studies are adding a fall 2021 data collection to address how families are faring during the COVID-19 pandemic. Data collection activities will include classroom and child sampling information collection, parent surveys, teacher child reports, and teacher surveys.

Sampling will begin with a freshening of the programs included in FACES fall 2019 and spring 2020 waves for a target of 180 programs that are nationally representative of all Head Start programs in the 2021-2022 program year. FACES fall 2021 data collection will take place in 60 of the 180 programs. AIAN FACES will return to the same 22 programs that participated in 2019 and 2020 data collection.

Sampling of teachers and children starts with sampling activities for 160 Head Start centers (120 for FACES 2019 and 40 for AIAN FACES 2019) in fall 2021. Study team members will request a list of all teachers and home visitors working with Head Start-funded children. Next, for each selected teacher or home visitor, we will request information for each child enrolled.

For the fall 2021 collection, FACES will survey the parents of 2,400 Head Start children in Regions I-X (FACES 2019) and 800 children in Region XI (AIAN FACES 2019) and ask their Head Start teachers to rate children's social and emotional skills. Parents of sampled children (2,400 for FACES and 800 for AIAN FACES) will complete surveys on the web or by telephone about their children and family in the context of the COVID-19 pandemic. Head Start teachers will rate each sampled child (approximately 10 children per classroom) using the Web or paper-and pencil forms. Teachers will also complete a survey, also using the web or paper-and-pencil forms, about their well-being and background. Additional data collection activities, to include the programs and respondents from fall 2021 plus the remaining 120 FACES programs, are planned for spring 2022 and will be included in a future Federal Register notice.

Respondents: Parents of Head Start children; Head Start teachers.

Annual Burden Estimates
Instrument | Number of respondents (total over request period) | Number of responses per respondent (total over request period) | Average burden per response (in hours) | Total burden (in hours) | Annual burden (in hours)
Fall 2021 special telephone script and recruitment information collection for program directors, Regions I-X | 60 | 1 | 1 | 60 | 20
Fall 2021 special telephone script and recruitment information collection for program directors, Region XI | 22 | 1 | 1 | 22 | 7
Fall 2021 special telephone script and recruitment information collection for on-site coordinators, Regions I-X | 60 | 1 | 1 | 60 | 20
Fall 2021 special telephone script and recruitment information collection for on-site coordinators, Region XI | 22 | 1 | 1 | 22 | 7
FACES 2019 fall 2021 special teacher sampling form from Head Start staff | 120 | 1 | .17 | 20 | 7
FACES 2019 fall 2021 special child roster form from Head Start staff | 120 | 1 | .33 | 40 | 13
FACES 2019 special parent consent form for fall 2021 and spring 2022 data collection | 2,400 | 1 | .17 | 408 | 136
FACES 2019 fall 2021 special Head Start parent survey | 2,400 | 1 | .58 | 1,392 | 464
FACES 2019 fall 2021 special Head Start teacher child report | 240 | 10 | .17 | 408 | 136
FACES 2019 fall 2021 special Head Start teacher survey | 240 | 1 | .17 | 41 | 14
AIAN FACES 2019 fall 2021 special teacher sampling form from Head Start staff | 40 | 1 | .17 | 7 | 2
AIAN FACES 2019 fall 2021 special child roster form from Head Start staff | 40 | 1 | .33 | 13 | 4
AIAN FACES 2019 special parent consent form for fall 2021 and spring 2022 data collection | 800 | 1 | .17 | 136 | 45
AIAN FACES 2019 fall 2021 special Head Start parent survey | 800 | 1 | .58 | 464 | 155
AIAN FACES 2019 fall 2021 special Head Start teacher child report | 80 | 20 | .17 | 272 | 91
AIAN FACES 2019 fall 2021 special Head Start teacher survey | 80 | 1 | .17 | 14 | 5

Estimated Total Annual Burden Hours: 1,126.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 640(a)(2)(D) and section 649 of the Improving Head Start for School Readiness Act of 2007.

Mary B. Jones,
ACF/OPRE Certifying Officer.

[FR Doc. 2021-05627 Filed 3-17-21; 8:45 am]

BILLING CODE 4184-22-P